DEPARTMENT OF TRANSPORTATION

Federal Aviation Administration

14 CFR Part 39

[Docket No. FAA-2019-0361; Product Identifier 2019-SW-015-AD; Amendment 39-19673; AD 2019-12-18]

RIN 2120-AA64

Airworthiness Directives; Robinson Helicopter Company Helicopters

AGENCY: Federal Aviation Administration (FAA), DOT.

ACTION: Final rule; request for comments.

SUMMARY: The FAA is adopting a new airworthiness directive (AD) for Robinson Helicopter Company (Robinson) Model R44 II helicopters. This AD requires inspecting the engine air induction hose (hose) and replacing any hose that is not airworthy. This AD was prompted by multiple reports of separation between the outer and inner layers of the hoses. The FAA is issuing this AD to address the unsafe condition on these products.

DATES: This AD is effective July 5, 2019.

The FAA must receive comments on this AD by August 19, 2019.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: U.S. Department of Transportation, Docket Operations, M-30, West Building Ground Floor, Room W12-140, 1200 New Jersey Avenue SE, Washington, DC 20590, between 9 a.m. and 5 p.m., Monday through Friday, except Federal holidays.

For service information identified in this final rule, contact Robinson Helicopter Company, 2901 Airport Drive, Torrance, CA 90505; phone 310-539-0508; fax 310-539-5198; or at https://robinsonheli.com/robinson-r44-service-bulletins/. You may view this service information at the FAA, Office of the Regional Counsel, Southwest Region, 10101 Hillwood Pkwy., Room 6N-321, Fort Worth, TX 76177.

Examining the AD Docket

You may examine the AD docket on the internet at http://www.regulations.gov by searching for and locating Docket No. FAA-2019-0361; or in person at Docket Operations between 9 a.m. and 5 p.m., Monday through Friday, except Federal holidays. The AD docket contains this final rule, the regulatory evaluation, any comments received, and other information. The street address for Docket Operations is listed above. Comments will be available in the AD docket shortly after receipt.

FOR FURTHER INFORMATION CONTACT: Roger Gretler, Aviation Safety Engineer, Los Angeles ACO Branch, Compliance & Airworthiness Division, FAA, 3960 Paramount Blvd., Lakewood, CA 90712; phone 562- 627-5251; email roger.gretler@faa.gov.

SUPPLEMENTARY INFORMATION:

Discussion

The FAA has received reports of separation between the outer and inner layers of the hose part number (P/N) A785-31. The FAA's investigation shows that, to date, 12 hoses have been inspected and all 12 out of a suspect population of 100 exhibit this condition. The suspect population is traced to a specific manufacturing batch marked by code 1Q18. This condition, if not addressed, could result in blockage of air flow to the engine, engine stoppage, and subsequent loss of control of the helicopter. The FAA is issuing this AD to address the unsafe condition on these products.

Record of Ex Parte Communication

In preparation of AD actions such as notices of proposed rulemaking and immediately adopted final rules, it is the practice of the FAA to obtain technical information and information on operational and economic impacts from design approval holders and aircraft operators. The FAA discussed certain aspects of this AD by email and telephone with Robinson. A summary of the discussions can be found in the rulemaking docket. For information on locating the docket, see “Examining the AD Docket.”

Related Service Information

The FAA reviewed Robinson R44 Service Bulletin SB-97, dated April 11, 2019 (SB). The SB applies to Robinson Model R44 II helicopters serial numbers (S/N) 14248 through 14286, except 14269, and to any A785-31 hoses shipped as spares from May through November 2018. The SB specifies, within 1 flight hour or prior to further flight if engine roughness or power loss is, or has been encountered, visually inspecting the hose for separation, flexing the hose to listen for a crinkling sound, which is an indication of separation, and replacing any hose that shows indication of separation. The SB also specifies replacing or discarding all affected hoses by June 30, 2019.

FAA's Determination

The FAA is issuing this AD because the FAA evaluated all the relevant information and determined the unsafe condition described previously is likely to exist or develop in other products of the same type design.

AD Requirements

This AD requires, for Robinson R44 II helicopters S/N 14248 through 14268 and 14270 through 14286 or with a hose P/N A785-31 installed after April 30, 2018, within 10 hours time-in-service (TIS), inspecting the inside of the hose for separation between the outer and inner layers, and flexing the hose in all directions while listening for a crinkling sound, which is an indication of separation. If there is any separation or a crinkling sound, this AD requires replacing the hose before further flight. If there is no separation and no crinkling sound, this AD requires replacing the hose within 50 hours TIS. Finally, after the effective date of this AD, installing on any helicopter a hose P/N A785-31 marked with code 1Q18 is prohibited.

Differences Between the AD and the Service Information

The SB specifies corrective action within one flight hour or prior to further flight if engine roughness or power loss is, or has been, encountered. This AD requires corrective action within 10 hours TIS. The compliance times specified in this AD differ from the SB because the FAA determined 10 hours TIS is a reasonable amount of time to comply with the required corrective actions. The SB applies only to those serial-numbered helicopters with an affected hose installed, whereas this AD also applies to helicopters with a hose that has been replaced after April 30, 2018.

Justification for Immediate Adoption and Determination of the Effective Date

Section 553(b)(3) of the Administrative Procedure Act (APA) (5 U.S.C.) authorizes agencies to dispense with notice and comment procedures for rules when the agency, for “good cause,” finds that those procedures are “impracticable, unnecessary, or contrary to the public interest.” Under this section, an agency, upon finding good cause, may issue a final rule without seeking comment prior to the rulemaking.

An unsafe condition exists that requires the immediate adoption of this AD without providing an opportunity for public comments prior to adoption. The FAA has found that the risk to the flying public justifies waiving notice and comment prior to adoption of this rule because corrective actions must be made within 10 hours TIS. Therefore, notice and opportunity for prior public comment are impracticable and contrary to public interest pursuant to 5 U.S.C. 553(b)(3)(B). In addition, for the reasons stated above, the FAA finds that good cause exists pursuant to 5 U.S.C. 553(d) for making this amendment effective in less than 30 days.

Comments Invited

This AD is a final rule that involves requirements affecting flight safety and was not preceded by notice and an opportunity for public comment. However, the FAA invites you to send any written data, views, or arguments about this final rule. Send your comments to an address listed under the ADDRESSES section. Include the docket number FAA-2019-0361 and Product Identifier 2019-SW-015-AD at the beginning of your comments. The FAA specifically invites comments on the overall regulatory, economic, environmental, and energy aspects of this final rule. The FAA will consider all comments received by the closing date and may amend this final rule because of those comments.

The FAA will post all comments received, without change, to http://www.regulations.gov, including any personal information you provide. The FAA will also post a report summarizing each substantive verbal contact received about this final rule.

Costs of Compliance

The FAA estimates that this AD may affect up to 88 helicopters of U.S. registry. The FAA estimates the following costs to comply with this AD. Labor costs are estimated at $85 per work-hour. Inspecting the hose takes about 0.5 work-hour and replacing it takes about 0.5 work-hour. Parts cost are about $134 per hose for an estimated cost of $219 per helicopter.

According to Robinson's service information, some of the costs of this AD may be covered under warranty, thereby reducing the cost impact on affected individuals. The FAA does not control warranty coverage for affected individuals. As a result, the FAA has included all costs in the cost estimate.

Authority for This Rulemaking

Title 49 of the United States Code specifies the FAA's authority to issue rules on aviation safety. Subtitle I, section 106, describes the authority of the FAA Administrator. “Subtitle VII: Aviation Programs” describes in more detail the scope of the Agency's authority.

The FAA is issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2019-12-18 Robinson Helicopter Company: Amendment 39-19673; Docket No. FAA-2019-0361; Product Identifier 2019-SW-015-AD.

(a) Effective Date

This AD is effective July 5, 2019.

(b) Affected ADs

None.

(c) Applicability

This AD applies to Robinson Helicopter Company Model R44 II helicopters certificated in any category.

(d) Subject

Joint Aircraft System Component (JASC)/Air Transport Association (ATA) of America Code: 7160, Engine Air Intake System.

(e) Unsafe Condition

This AD was prompted by a report of separation between the outer and inner layers of a hose. This condition, if not addressed, could result in blockage of air flow to the engine, engine stoppage, and subsequent loss of control of the helicopter. The FAA is issuing this AD to prevent the unsafe condition on these helicopters.

(f) Compliance

Comply with this AD within the compliance times specified, unless already done.

(g) Required Actions

(1) For helicopters with an engine air induction hose (hose) part number A785-31 installed after April 30, 2018 or helicopter serial numbers 14248 through 14268 and 14270 through 14286, within 10 hours time-in-service (TIS):

(i) Inspect the inside of the hose for separation between the outer and inner layers, and flex the hose in all directions while listening for a crinkling sound, which is an indication of separation.

(ii) If there is any separation or a crinkling sound, replace the hose before further flight.

(iii) If there is no separation and no crinkling sound, replace the hose within 50 hours TIS.

(2) After the effective date of this AD, do not install on any helicopter a hose part number A785-31 marked with code 1Q18.

(h) Alternative Methods of Compliance (AMOCs)

(1) The Manager, Los Angeles ACO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (i)(1) of this AD. Information may be emailed to: 9-ANM-LAACO-ACO-AMOC-Requests@faa.gov.

(2) Before using any approved AMOC, notify your appropriate principal inspector, or lacking a principal inspector, the manager of the local flight standards district office/certificate holding district office.

(i) Related Information

(1) For more information about this AD, contact Roger Gretler, Aviation Safety Engineer, Los Angeles ACO Branch, Compliance & Airworthiness Division, FAA, 3960 Paramount Blvd., Lakewood, CA 90712; phone 562-627-5251; email roger.gretler@faa.gov.

(2) For information about AMOCs, contact 9-ANM-LAACO-ACO-AMOC-Requests@faa.gov.

(3) For copies of the service information referenced in this AD, contact: Robinson Helicopter Company, 2901 Airport Drive, Torrance, CA 90505; phone 310-539-0508; fax 310-539-5198; or at https://robinsonheli.com/robinson-r44-service-bulletins/. You may view this referenced service information at the FAA, Office of the Regional Counsel, Southwest Region, 10101 Hillwood Pkwy., Room 6N-321, Fort Worth, TX 76177.

(j) Material Incorporated by Reference

None.

Issued in Fort Worth, Texas, on June 25, 2019.
James A. Grigg,
Acting Deputy Director for Regulatory Operations, Compliance & Airworthiness Division, Aircraft Certification Service.

[FR Doc. 2019-14205 Filed 7-3-19; 8:45 am]

BILLING CODE 4910-13-P